DEPARTMENT OF AGRICULTURE

Agricultural Marketing Service

[Doc. No. AMS-ST-08-0103]

Notice of Request for Revision of a Currently Approved Collection

AGENCY: Agricultural Marketing Service, USDA.

ACTION: Notice and request for comments.

SUMMARY: In accordance with the Paperwork Reduction Act of 1995 (44 U.S.C. Chapter 35), this notice announces the Agricultural Marketing Service's (AMS) intention to request approval from Office of Management and Budget (OMB) for an extension of and revision to the currently approved information collection “Application for Plant Variety Protection Certification and Objective Description of Variety.” Two new forms are introduced to this collection.

DATES: Comments on this notice must be received by February 27, 2009. All comments submitted in response to this notice will be included in the record and will be made available to the public. Please be advised that the identity of the individuals or entities submitting the comments will be made public on the Internet via http://www.regulations.gov.

Additional Information or Comments: Contact Bernadette Thomas, Information Technology Specialist, Plant Variety Protection Office (PVPO), Science and Technology, AMS, Room 401, National Agricultural Library (NAL), 10301 Baltimore Avenue, Beltsville, MD 20705; Telephone (301) 504-5297 and Fax (301) 504-5291.

SUPPLEMENTARY INFORMATION: Title: Regulations Governing the Application for Plant Variety Protection Certificate and Reporting Requirements under the Plant Variety Protection Act.

OMB Number: 0581-0055.

Expiration Date of Approval: June 30, 2009.

Type of Request: Extension and revision of a currently approved information collection.

Abstract: The Plant Variety Protection Act (PVPA) (7 U.S.C. 2321 et seq.) was established “To encourage the development of novel varieties of sexually reproduced plants and make them available to the public, providing protection available to those who breed, develop, or discover them, and thereby promote progress in agriculture in the public interest.”

The PVPA is a voluntary user funded program which grants intellectual property rights protection to breeders of new, distinct, uniform, and stable seed reproduced and tuber propagated plant varieties. To obtain these rights the applicant must provide information which shows the variety is eligible for protection and that it is indeed new, distinct, uniform, and stable as the law requires. Application forms, descriptive forms, and ownership forms are furnished to applicants to identify the information which is required to be furnished by the applicant in order to legally issue a certificate of protection (ownership). The certificate is based on claims of the breeder and cannot be issued on the basis of reports in publications not submitted by the applicant. Regulations implementing the PVPA appear at 7 CFR Part 92.

Form ST-470, Application for Plant Variety Protection Certificate, Form ST-470 series, Objective Description of Variety (Exhibit C to Form ST-470P), and Form ST-470-E, Statement of Basis of Applicant's Ownership, are the basis by which the determination, by experts at PVPO, is made as to whether a new, distinct, uniform, and stable seed reproduced or tuber-propagated variety in fact exists and is entitled to protection.

The application form would be revised slightly to clarify that applicants may specify not only that the variety be sold only as a class of certified seed (Foundation, Registered, or Certified) but that the applicant may specify a limitation on the number of generations within each class. The information received on applications, with certain exceptions, is required by law to remain confidential until the certificate is issued (7 U.S.C. 2426).

The information collection requirements in this request are essential to carry out the intent of the PVPA, to provide applicants with certificates of protection, to provide the respondents the type of service they request, and to administer the program.

Estimate of Burden: Public reporting burden for this collection of information is estimated to average .75 hours per response.

Respondents: Businesses or other for-profit, not-for-profit institutions, and Federal Government.

Estimated Number of Respondents: 98.

Estimated Number of Responses per Respondent: 29.

Estimated Total Annual Burden on Respondents: 2,080.

Two new forms will be introduced into this collection. Information concerning these new forms is listed below.

Title: Form ST-470-20b: Objective Description of Variety—Cucurbita spp. not pepo's.

Expiration Date of Approval: Three years from date of OMB approval.

Abstract: This form was created to collect information on varieties of Cucurbita spp. not pepo's. The previous form ST-470-20 collected descriptions of any species of cucurbit but was designed with winter squashes, such as pumpkins, in mind.

Estimate of Burden: Public reporting burden for this collection of information is estimated to average .2857 hours per response.

Respondents: PVP applicants.

Title: Form ST-470-104: Objective Description of Variety—Mustard.

Expiration Date of Approval: Three years from date of OMB approval.

Abstract: This form was created in response to an applicant's request. Previous applicants used the rapeseed form which was used as a basis for this new form.

Estimate of Burden: Public reporting burden for this collection of information is estimated to average .2142 hours per response.

Respondents: PVP applicants.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Bernadette Thomas, Information Technology Specialist, Plant Variety Protection Office, Room 401, NAL Building, 10301 Baltimore Avenue, Beltsville, MD 20705. All comments received will be available for public inspection during regular business hours at the same address.

All responses to this notice will be summarized and included in the request for OMB approval. All comments will become a matter of public record.

Dated: December 19, 2008.
James E. Link,
Administrator, Agricultural Marketing Service.

[FR Doc. E8-30696 Filed 12-24-08; 8:45 am]

BILLING CODE 3410-02-P